DEPARTMENT OF HEALTH AND HUMAN SERVICES

Centers for Disease Control and Prevention

Total Control of the Epidemic: A Door-to-Door Approach to Strengthen Community-Based Interventions for HIV/AIDS Prevention, Care and Treatment in Namibia

Announcement Type: New.

Funding Opportunity Number: AA072.

Catalog of Federal Domestic Assistance Number: 93.067.

Key Dates: Application Deadline: September 6, 2005.

I. Funding Opportunity Description

Authority: This program is authorized under Sections 301(a) and 307 of the Public Health Service Act [42 U.S.C. 241 and 242l], as amended, and under Public Law 108-25 (United States Leadership Against HIV/AIDS, Tuberculosis and Malaria Act of 2003) [U.S.C. 7601].

Background: The President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Over the same time period, as part of a collective national response, the Emergency Plan goals specific to Namibia are to treat at least 23,000 HIV-infected individuals and care for 115,000 HIV-affected individuals, including orphans.

Purpose: The purpose of this funding announcement is to progressively build an indigenous, sustainable response to the national HIV epidemic through the rapid expansion of innovative, culturally appropriate, high-quality HIV/AIDS prevention and care interventions, and improved linkages to HIV counseling and testing and HIV treatment services targeting rural and other underserved populations in Namibia.

Under the leadership of the U.S. Global AIDS Coordinator, as part of the President's Emergency Plan, the U.S. Department of Health and Human Services (HHS) works with host countries and other key partners to assess the needs of each country and design a customized program of assistance that fits within the host nation's strategic plan.

HHS announces the availability of fiscal year (FY) 2005 funds for a cooperative agreement to implement HIV/AIDS prevention, care, and treatment in the community in northern Namibia.

The purpose of this announcement is to support the community response in Namibia to increase its capacity to prevent new HIV infections and to improve community linkages with available health care and social services for confidential HIV counseling and testing (CT), HIV/AIDS care, treatment, and support. The Namibian Ministry of Health and Social Services (MoHSS) has requested assistance from HHS to rapidly expand health care and social services within Namibia through a population-based door-to-door education program known as “Total Control of the Epidemic” (TCE). The TCE approach has been shown to significantly improve the community response to HIV/AIDS, such as increases in HIV testing rates in neighboring Botswana. TCE has begun in the northern regions of Namibia, including the Omusati, Oshana, and half of the Ohangwena and Oshikoto regions, and this announcement will extend this unique program to the remaining half of Ohangwena and Oshikoto regions and the neighboring region of Kavango in 2005. These five regions account for 54 percent of the Namibia population. Based on performance and need, it is also anticipated that the TCE program will be extended to other regions in subsequent years.

HHS/CDC assistance will include: (1) Technical guidance to awardee personnel by working in close collaboration with the MOHSS to develop appropriate training materials for field staff in HIV prevention, including Abstinence (“A”), Being faithful to a partner of known HIV status (“B”), and for populations engaged in high-risk behaviors [1] correct and consistent Condom use (“C”) ¹[“A,B,C” model]; (3) the benefits of knowing your HIV status and how to access services for CT; (4) increasing awareness in the community that HIV Confidential counseling and testing will be more routinely offered in the health-care setting, e.g., when pregnant, or sick with TB or other HIV-related conditions; (5) the availability of comprehensive HIV/AIDS care in the health facilities, including prevention and treatment of opportunistic infections and anti-retroviral therapy (ART); and (6) the importance of nutrition and positive living for those infected by HIV.

¹ Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing abstinence and faithfulness behavior-change interventions.

Measurable outcomes of the program will be in alignment with the numerical performance goals of the President's Emergency Plan and with the following performance goals of the National Center for HIV, Sexually Transmitted Disease and Tuberculosis Prevention of the Centers for Disease Control and Prevention (CDC) within HHS: By 2010, work with other countries, international organizations, the U.S. Department of State, United States Agency for International Development (USAID), and other partners to achieve the United Nations General Assembly Special Session on HIV/AIDS goal of reducing prevalence among young persons 15 to 24 years of age, reducing HIV transmission, and improving care of persons living with HIV/AIDS (PLWHA).

This announcement is only for non-research activities supported by HHS, including the CDC. If an applicant proposes research activities, HHS will not review the application. For the definition of research, please see the HHS/CDC Web site at the following Internet address: http://www.cdc.gov/od/ads/opspoll1.htm.

Activities: The recipient of these funds is responsible for activities in multiple program areas designed to target underserved populations in northern Namibia. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The awardee will produce an annual operational plan in the context of this four-year plan, which the U.S. Government Emergency Plan team on the ground in Namibia will review as part of the annual Emergency Plan for AIDS Relief Country Operational Plan review and approval process managed by the Office of the U.S. Global AIDS Coordinator. The awardee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardee Activities for this program are as follows:

1. Identify, train, compensate, and support field educators from the community to deliver the TCE program.

2. Collaborate with local, regional, and national government officials to ensure that activities and approaches are consistent with national HIV/AIDS policies, the National Strategic Plan on HIV/AIDS, and the five-year strategies and goals of the President's Emergency Plan.

3. Collaborate with other non-governmental organizations to avoid duplication, and to improve access of the population within TCE areas to needed services.

4. Inform and educate the public, including community leaders and traditional healers, about HIV/AIDS, including age-appropriate prevention through the “A,B,C” model, prevention of mother-to-child transmission (PMTCT), confidential voluntary counseling and testing (VCT) and access to care, support, and treatment.

5. Mobilize the communities in Namibia to support and utilize PMTCT, confidential counseling and testing, and HIV/AIDS care, including organizing groups for mobile confidential VCT.

6. Provide basic counseling on HIV risk-reduction and positive living.

7. Work to link activities described here with related HIV care and other social services in the area, and promote coordination at all levels, including through bodies such as village, district, regional and national HIV coordination committees and networks of faith-based organizations.

8. Participate in relevant national technical coordination committees and in national process(es) to define, implement and monitor simplified small grants program(s) for faith- and community-based organizations, to ensure local stakeholders receive adequate information and assistance to engage and access effectively funding opportunities supported by the President's Emergency Plan and other donors.

9. Progressively reinforce the capacity of faith- and community-based organizations and village and district AIDS committees to promote quality, local ownership, accountability and sustainability of activities.

10. Develop and implement a project-specific participatory monitoring and evaluation plan by drawing on national and U.S. Government requirements and tools, including the strategic information guidance provided by the Office of the U.S. Global AIDS Coordinator.

In a cooperative agreement, HHS staff is substantially involved in the program activities, above and beyond routine grant monitoring.

HHS Activities for this program is as follows:

1. Collaborate with the awardee in adapting the TCE approach to the Namibia cultural and social context, including, but not limited to, the provision of technical assistance to design program activities and training materials, quality assurance, monitoring and evaluation, and providing recommendations.

2. Organize an orientation meeting with the awardee to brief them on applicable U.S. Government, HHS, and Emergency Plan expectations, regulations and key management requirements, as well as report formats and contents. The orientation could include meetings with staff from HHS agencies and the Office of the U.S. Global AIDS Coordinator.

3. Conduct support visits to work sites in collaboration with the Ministry of Health and Social Services to promote linkages to health facilities and services related to voluntary counseling and testing, prevention of mother-to-child transmission, antiretroviral therapy, TB/HIV, and palliative HIV/AIDS care.

4. Review and approve the process used by the awardee to select key personnel and/or post-award subcontractors and/or subgrantees to be involved in the activities performed under this agreement, as part of the Emergency Plan for AIDS Relief Country Operational Plan review and approval process, managed by the Office of the U.S. Global AIDS Coordinator. Provide trainers to assist the awardee with training of staff members and field officers.

5. Monitor project and budget performance. Review and approve awardee's annual work plan and detailed budget, as part of the Emergency Plan for AIDS Relief Country Operational Plan review and approval process, managed by the Office of the U.S. Global AIDS Coordinator.

6. Review and approve awardee's monitoring and evaluation plan, including for compliance with the strategic information guidance established by the Office of the U.S. Global AIDS Coordinator.

7. Meet on a monthly basis with awardee to assess monthly expenditures in relation to approved work plan and modify plans as necessary.

8. Meet on a quarterly basis with awardee to assess quarterly technical and financial progress reports and modify plans as necessary.

9. Meet on an annual basis with awardee to review annual progress report for each U.S. Government Fiscal Year, and to review annual work plans and budgets for subsequent year, as part of the Emergency Plan for AIDS Relief review and approval process for Country Operational Plans, managed by the Office of the U.S. Global AIDS Coordinator.

II. Award Information

Type of Award: Cooperative Agreement.

Fiscal Year Funds: 2005.

Approximate Total Funding: $5,000,000 (This amount is an estimate, and is subject to availability of funds.)

Approximate Number of Awards: One.

Approximate Average Award: $769,165 (This amount is for the first 12-month budget period.)

Floor of Award Range: $769,165.

Ceiling of Award Range: $2,000,000 (This ceiling is for the first 12-month budget period.)

Anticipated Award Date: September 23, 2005.

Budget Period Length: 12 months.

Project Period Length: Four years.

Throughout the project period, HHS’ commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

Funding under this Cooperative Agreement will be used in FY 2005 to immediately and more efficiently expand the TCE program to reach underserved populations. Applicants must be able to demonstrate the ability to deliver TCE in the following geographic areas: The areas of Ohangwena and Oshikoto regions where TCE has not begun and the neighboring region of Kavango. Applicants must have the ability to financially and technically oversee the project and provide implementation of a large-scale interpersonal communication project and the ability to collect information, train staff and advocate for the program in support of the National AIDS Strategic Plan, and to disseminate personalized communication to support the fight against HIV/AIDS in the Republic of Namibia.

III.2. Cost Sharing or Matching Funds

Preference will go to organizations that leveraged additional resources from the Global Fund to contribute to program goals in Oshana, Omusati, and Oshikoto Regions.

III.3. Other

If applicants request a funding amount greater than the ceiling of the award range, HHS/CDC will consider the application non-responsive, and it will not enter into the review process. We will notify you that your application did not meet the submission requirements.

Special Requirements: If your application is incomplete or non-responsive to the special requirements listed in this section, it will not enter into the review process. We will notify that your application did not meet submission requirements.

• HHS/CDC will consider late applications non-responsive. See section “IV.3. Submission Dates and Times” for more information on deadlines.

• Note: Title 2 of the United States Code Section 1611 state that an organization described in Section 501(c) (4) of the Internal Revenue Code that engages in lobbying activities is not eligible to receive Federal funds constituting an award, grant, or loan.

IV. Application and Submission Information

IV.1. Address to Request Application Package

To apply for this funding opportunity use application form PHS 5161-1.

Electronic Submission: HHS strongly encourages you to submit your application electronically by using the forms and instructions posted for this announcement on www.grants.gov, the official Federal agencywide E-grant Web site.

Paper Submission: Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) staff at 770-488-2700. We can mail application forms to you.

IV.2. Content and Form of Submission

Application: You must submit a project narrative with your application forms. You must submit the narrative in the following format:

• Maximum number of pages: 25. If your narrative exceeds the page limit, we will only review the first pages within the page limit.

• Font size: 12 point unreduced

• Double-spaced

• Paper size: 8.5 by 11 inches paper is “preferred” but customary sized paper used by international organizations will be accepted.

• Page margin size: One inch

• Printed only on one side of page

• Held together only by rubber bands or metal clips; not bound in any other way.

• You must submit the narrative in English

The narrative should address activities to be conducted over the entire project period, and must include the following items in the order listed:

• Project Context and Background (Understanding and Need)

• Project Strategy—Description and Methodologies

• Project Goals and Objectives

• Project Contribution to the Goals and Objectives of the Emergency Plan for AIDS Relief

• Work Plan and Description of Project Components and Activities

• Timeline

• Staff

• Performance Measures

• Budget Justification (The budget justification will not be counted in the 25 page limit).

You may include additional information in the application appendices. The appendices will not count toward the narrative page limit. This additional information includes:

• Certified copies of letters or notification from the Global Fund concerning award of funds for Omusati, Oshana, Oshikoto, and Ohangwena regions.

• Letters of support from their respective regional offices and the regional office of Kavango.

• Curriculum Vitae of the project director with the application and describe how Namibian personnel will be integrated into project management in the interest of capacity-building and sustainability.

The organization or agency must have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/grantmain.htm.

If the application form does not have a DUNS number field, please write the DUNS number at the top of the first page of the application, and/or include the DUNS number in the application cover letter.

Additional requirements that could require submittal of additional documentation with the application are listed in section “VI.2. Administrative and National Policy Requirements.”

Application Deadline Date: September 6, 2005.

Explanation of Deadlines: Applications must be received in the CDC Procurement and Grants Office by 4 p.m. eastern time on the deadline date.

You may submit your application electronically at http://www.grants.gov. We consider applications completed on-line through Grants.gov as formally submitted when the applicant organization's Authorizing Official electronically submits the application to www.grants.gov. We will consider electronic applications as having met the deadline if the applicant organization's Authorizing Official has submitted the application electronically to Grants.gov on or before the deadline date and time.

If you submit your application electronically with Grants.gov (http://www.grants.gov), your application will be electronically time/date stamped, which will serve as receipt of submission. You will receive an e-mail notice of receipt when HHS/CDC receives the application.

If you submit the application by the United States Postal Service or commercial delivery service, you must ensure the carrier will be able to guarantee delivery by the closing date and time. If HHS/CDC receives the submission after the closing date because: (1) Carrier error, when the carrier accepted the package with a guarantee for delivery by the closing date and time, or (2) significant weather delays or natural disasters, you will have the opportunity to submit documentation of the carrier's guarantee. If the documentation verifies a carrier problem, HHS/CDC will consider the submission as received by the deadline.

If you submit hard copy application, HHS/CDC will not notify you upon receipt of the submission. If you have a question about the receipt of the application, first contact the carrier. If you still have a question, contact the PGO-TIM staff at (770) 488-2700. Before calling, please wait two to three days after the submission deadline. This will allow time for us to process and log submissions.

This announcement is the definitive guide on application content, submission address, and deadline. It supersedes information provided in the application instructions. If your submission does not meet the deadline above, it will not be eligible for review, and will be discarded. We will notify you that you did not meet the submission requirements.

IV.4. Intergovernmental Review of Applications

Executive Order 12372 does not apply to this program.

IV.5. Funding Restrictions

Restrictions, which you must be taken into account while writing your budget, are as follows:

Funding to be administered include: Provision of salaries and short term contracts for technical and support staff needed to scale up TCE programs in the community to a nation-wide level; funding for the support infrastructure in terms of office space, equipment, supplies, transport, communications, and logistics in support of program activities; funding for training, materials, and supervision in the field for the staff engaged in HIV/AIDS prevention, care, and treatment programs.

• Funds may not be used for research.

• Reimbursement of pre-award costs is not allowed.

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the U.S. or to international organizations, regardless of their location.

• The applicant may contract with other organizations under this program; however, the applicant must perform a substantial portion of the activities (including program management and operations, and delivery of prevention services for which funds are required).

• You must obtain an audit of these HHS/CDC funds (program-specific audit) by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

• Needle Exchange—No funds appropriated under this Act shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all sub-agreements under this award. These provisions must be express terms and conditions of the sub-agreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, “Prostitution and Related Activities.” ’) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address

Electronic Submission

HHS/CDC strongly encourages you to submit electronically at http://www.grants.gov. You will be able to download a copy of the application package from www.grants.gov, complete it offline, and then upload and submit the application via the Grants.gov site. We will not accept e-mail submissions. If you are having technical difficulties in Grants.gov, you may reach them by e-mail at support@grants.gov or by phone at 1-800-518-4726 (1-800-518-GRANTS). The Customer Support Center is open from 7 a.m. to 9 p.m. eastern time, Monday through Friday.

HHS/CDC recommends that you submit your application to Grants.gov early enough to resolve any unanticipated difficulties prior to the deadline. You may also submit a back-up paper submission of the application. We must receive any such paper submission in accordance with the requirements for timely submission detailed in Section IV.3. of the grant announcement.

You must clearly mark the paper submission: “BACK-UP FOR ELECTRONIC SUBMISSION.”

The paper submission must conform to all requirements for non-electronic submissions. If we receive both electronic and back-up paper submissions by the deadline, we will consider the electronic version the official submission.

We strongly recommended that you submit the grant application by using Microsoft Office products (e.g., Microsoft Word, Microsoft Excel, etc.). If you do not have access to Microsoft Office products, you may submit a PDF. You may find directions for creating PDF files on the Grants.gov Web site. Use of file formats other than Microsoft Office or PDF could make your file unreadable for our staff.

or

Paper Submission

Submit the original and two hard copies of your application by mail or express delivery service to the following address: Technical Information Management-AA072, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Technical Approach (25 points).

To the extent to which the applicant's proposal includes an overall design strategy, including measurable time lines, the extent to which the proposal addresses regular monitoring and evaluation, and the potential effectiveness of the proposed activities in meeting objectives.

2. Understanding of the Problem (20 points).

Extent to which the applicant demonstrates a clear and concise understanding of the nature of the problem described in the Purpose section of this announcement. This specifically includes description of the public health importance of the planned activities to be undertaken and realistic presentation of proposed objectives and projects. Does the applicant demonstrate understanding of the processes and principles of The Global Fund to Fight AIDS, Tuberculosis and Malaria, and does the applicant display a willingness and ability to integrate its program with activities funded by The Global Fund? Does the applicant display knowledge of the five-year strategy and goals of the President's Emergency Plan, such that it can build on these to develop a comprehensive, collaborative project to reach underserved populations in Namibia and meet the goals of the Emergency Plan?

3. Ability to Carry Out the Project (20 points).

The extent to which the applicant documents demonstrated capability to achieve the purpose of the project.

4. Personnel (20 points).

The extent to which professional personnel, including Namibians, involved in this project are qualified, including evidence of experience in working with HIV/AIDS, community-based programs, and monitoring and evaluation.

5. Plans for Administration and Management of Projects (15 points).

Does the applicant demonstrate adequacy of plans for administering the projects, and does the applicant describe a plan to progressively build the indigenous capacity of Namibians and of target beneficiaries and communities to manage various aspects of the project and to respond to the epidemic?

6. Budget (Reviewed but not scored).

The extent to which the itemized budget for conducting the project, along with justification, is reasonable and consistent with the five-year strategy and goals of the President's Emergency Plan, Emergency Plan activities in Namibia, and stated objectives and planned program activities.

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

Applications will be funded in order by score and rank determined by the review panel. HHS/CDC will provide justification for any decision to fund out of rank order.

V.3. Anticipated Announcement and Award Dates

September 23, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92.

For more information on the Code of Federal Regulations, see the National Archives and Records Administration at the following Internet address: http://www.access.gpo.gov/nara/cfr/cfr-table-search.html.

The following additional requirements apply to this project:

• AR-4 HIV/AIDS Confidentiality Provisions

• AR-6 Patient Care

• AR-8 Public Health System Reporting Requirements

• AR-10 Smoke-Free Workplace Requirements

• AR-12 Lobbying Restrictions

• AR-14 Accounting System Requirements

Applicants can find additional information on the requirements on the HHS/CDC Web site at the following Internet address: http://www.cdc.gov/od/pgo/funding/ARs.htm.

You need to include an additional Certifications form from the PHS5161-1 application needs in your Grants.gov electronic submission only. Please refer to http://www.cdc.gov/od/pgo/funding/PHS5161-1-Certificates.pdf. Once you have filled out the form, please attach it to the Grants.gov submission as Other Attachments Form.

VI.3. Reporting Requirements

You must provide HHS/CDC with an original, plus two hard copies, of the following reports:

1. Interim progress reports (annual): a brief, comprehensive narrative progress report should be submitted no less than 90 days after the end of the budget period. The progress report will serve as your non-competing continuation application, and must contain the following elements:

a. Current Budget Period Activities Objectives.

b. Current Budget Period Financial Progress.

c. New Budget Period Program Proposed Activity Objectives.

d. Detailed Line-Item Budget.

e. Measures of Effectiveness, including progress against the numerical goals of the President's Emergency Plan for AIDS Relief for Namibia.

f. Additional Requested Information.

2. Financial status report due no more than 90 days after the end of the budget period.

3. Final financial and performance reports, due no more than 90 days after the end of the project period.

4. Annual progress report, due no more than 60 days after the end of the budget period. Reports should include progress against the numerical goals of the President's Emergency Plan for AIDS Relief for Namibia.

Recipients must mail these reports to the Grants Management Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Leonard Floyd, Project Officer, U.S. Department of State, 2540 Windhoek Place, Washington, DC 20521-8320, Telephone: 011 264 61224 149, E-mail: Floydl@nacop.net.

For financial, grants management, or budget assistance, contact: Shirley Wynn, Grants Management Specialist, CDC Procurement and Grants Office, U.S. Department of Health and Human Services, 2920 Brandywine Road, Atlanta, GA 30341, Telephone: (770) 488-1515, E-mail: SWynn@cdc.gov.

VIII. Other Information

Applicants can find this and other CDC funding opportunity announcements on the HHS/CDC Web site, Internet address: http://www.cdc.gov (Click on “Funding” then “Grants and Cooperative Agreements”), and on the Web site of the HHS Office of Global Health Affairs, Internet address: http://www.globalhealth.gov.

Dated: August 5, 2005.
William P. Nichols,
Director, Procurement and Grants Office, Centers for Disease Control and Prevention, U.S. Department of Health and Human Services.

[FR Doc. 05-15892 Filed 8-10-05; 8:45 am]

BILLING CODE 4163-18-P